DEPARTMENT OF DEFENSE

Department of the Navy

Department of the Navy Science and Technology Board; Notice of Federal Advisory Committee Meeting

AGENCY: Department of the Navy (DoN), Department of Defense (DoD).

ACTION: Notice of Federal advisory committee meeting.

SUMMARY: The DoD is publishing this notice to announce that the following Federal advisory committee meeting of the Department of the Navy Science and Technology Board (DON S&T Board) will take place.

DATES: A closed meeting will be held on Monday, January 29, 2024 to January 31, 2024 from 8 a.m. to 5 p.m. Hawaii standard time (HST). A closed meeting is required because the discussions will involve classified national security matters and technical processes.

ADDRESSES: The closed meeting will be held at Naval Station Pearl Harbor, Honolulu, Hawaii.

FOR FURTHER INFORMATION CONTACT: Ms. Maria Proestou, Designated Federal Officer (DFO), Office of the Assistant Secretary of the Navy (Research, Development & Acquisition), Pentagon, Washington, DC 20350-1000, 703-692-8278, donstb.fct@navy.mil.

SUPPLEMENTARY INFORMATION: This meeting is being held under the provisions of chapter 10 of title 5 U.S.C. (commonly known as the Federal Advisory Committee Act (FACA), the Government in the Sunshine Act of 1976 (5 U.S.C. 552b, as amended), title 41 Code of Federal Regulations (CFR) 102-3.140 and 102-3.150 and covered by 5 U.S.C. 552b(c)(l). Due to circumstances beyond the control of the Designated Federal Officer, the Department of the Navy Science and Technology Board was unable to provide public notification required by 41 CFR 102-3.150(a) concerning its January 29 through 31, 2024 meeting. Accordingly, the Advisory Committee Management Officer for the Department of Defense, pursuant to 41 CFR 102-3.150(b), waives the 15-calendar day notification requirement.

Purpose of the Meeting: The purpose of the meeting will be to collaborate with Navy and Marine Corps operational leadership on opportunities to expand warfighting advantage through technologies that have the potential to disrupt the nature of warfighting. The Board members will conduct classified interviews with subject matter experts to support the Board's tasking. Leveraging information gathered, the Board will assess work in progress to develop practical recommendations in support of SECNAV tasking.

Agenda: On January 29 through January 31, 2024, the Board will visit facilities and meet with relevant military and civilian officials in and around Pearl Harbor. There will be classified strategy and requirements discussions relevant to topics tasked by SECNAV.

Availability of Materials for the Meeting: A copy of the agenda or any updates to the agenda for the meeting from January 29 through January 31, 2024, as well as supporting documents, can be found on the website: https://www.facadatabase.gov.

Meeting Accessibility: Pursuant to section 552b(c)(l) of 5 U.S.C., this meeting will be closed to the public. If there are any questions or concerns, please send them to donstb.fct@navy.mil no later than, January 29, 2024.

Written Statements: Pursuant to 41 CFR 102-3.105 and 102-3.140, and section 1009(a)(3) of title 5 U.S.C., written statements to the committee may be submitted at any time or in response to a stated planned meeting agenda by email to donstb.fct@navy.mil with the subject line, “Comments for DON STB Meeting.”

Dated: January 24, 2024.
J.E. Koningisor,
Lieutenant Commander, Judge Advocate General's Corps, U.S. Navy, Federal Register Liaison Officer.

[FR Doc. 2024-01690 Filed 1-26-24; 8:45 am]

BILLING CODE 3810-FF-P